DEPARTMENT OF VETERANS AFFAIRS

[OMB Control No. 2900-0697]

Agency Information Collection (Application for Approval of a Licensing or Certification and Organization or Entity) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before October 28, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0697” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0697.”

SUPPLEMENTARY INFORMATION: Title: Application for Approval of a Licensing or Certification and Organization or Entity: 38 CFR 21.4268.

OMB Control Number: 2900-0697.

Type of Review: Revision of a currently approved collection.

Abstract: The data collected will be used to determine whether licensing and certification tests, and the organizations offering them, should be approved for VA training under education programs VA administers.

An agency may not conduct or sponsor, and a person is not required to respond to a collection of information unless it displays a currently valid OMB control number. The Federal Register Notice with a 60-day comment period soliciting comments on this collection of information was published on June 18, 2013, at pages 36641-36642.

Affected Public: Individuals or households.

Estimated Annual Burden: 1,593 hours.

Frequency of Response: On occasion.

Estimated Average Burden per Respondents: 3 hours.

Estimated Annual Responses: 531.

Dated: September 23, 2013.
By direction of the Secretary.
Crystal Rennie,
VA Clearance Officer, U.S. Department of Veterans Affairs.

[FR Doc. 2013-23497 Filed 9-25-13; 8:45 am]

BILLING CODE 8320-01-P